NATIONAL FOUNDATION ON THE ARTS AND THE HUMANITIES

Institute of Museum and Library Services, Sunshine Act Meeting of the National Museum and Library Services Board

AGENCY: Institute of Museum and Library Services (IMLS), NFAH.

ACTION: Notice of Meeting.

SUMMARY: This notice sets forth the agenda of the forthcoming meeting of the National Museum and Library Services Board. This notice also describes the function of the Board. Notice of the meeting is required under the Sunshine in Government Act.

Time and Date: Wednesday, September 27, 2006 from 3:30 p.m. to 5 p.m.

Agenda: Committee Meetings of the Ninth National Museum and Library Service Board Meeting:

3:30 p.m.-5 p.m.: Meetings of the Committees on Partnerships & Government Affairs and Policy & Planning

I. Staff Reports

II. Other Business

Place: The meetings will be held in the Board room and Karen Smith Committee room at the Institute of Museum and Library Services, 1800 M Street, NW., 9th Floor, Washington, DC 20036. Telephone: (202) 653-4676.

Time and Date: Thursday, September 28, 2006, from 9 a.m. to 1 p.m.

Agenda: Ninth National Museum and Library Services Board Meeting:

I. Welcome

II. Approval of Minutes

III. Program Reports

IV. Committee Reports

V. Board Program: Digital Humanities Initiative

VI. Adjournment

Place: The meeting will be held in the Board room at the Institute of Museum and Library Services, 1800 M Street, NW., 9th Floor, Washington, DC 20036. Telephone: (202) 653-4676.

FOR FURTHER INFORMATION CONTACT: Elizabeth Lyons, Special Events and Board Liaison, Institute of Museum and Library Services, 1800 M Street, NW., 9th Floor, Washington, DC 20036. Telephone: (202) 653-4676.

SUPPLEMENTARY INFORMATION: The National Museum and Library Services Board is established under the Museum and Library Services Act, 20 U.S.C. Section 9101 et seq. The Board advises the Director of the Institute on general policies with respect to the duties, powers, and authorities related to Museum and Library Services.

If you need special accommodations due to a disability, please contact; Institute of Museum and Library Services, 1800 M Street, NW., 9th Fl., Washington, DC 20036. Telephone: (202) 653-4676; TDD (202) 653-4699 at least seven (7) days prior to the meeting date.

Dated: September 12, 2006.
Kate Fernstrom,
Chief of Staff.

[FR Doc. 06-7753 Filed 9-14-06; 1:26 pm]

BILLING CODE 7036-01-M